DEPARTMENT OF HEALTH AND HUMAN SERVICES

Indian Health Service

Request for Public Comment: 60-day Proposed Collection; Indian Health Service Contract Health Service Report

AGENCY: Indian Health Service, HHS.

SUMMARY: In compliance with section 3506(c)(2)(A) of the Paperwork Reduction Act of 1995, to provide a 60-day advance opportunity for public comment on proposed data collection projects, the Indian Health Service (IHS) is publishing for comment a summary of a proposed information collection project to be submitted to the Office of Management and Budget for review.

Proposed Collection: Title: 09-17-0002, “IHS Contract Health Service Report”. Type of Information Collection Request: 3-year reinstatement, without change, of previously approved information collection, 0917-0002, “IHS Contract Health Service Report” which expires 07/31/01. Form Number: IHS-843-1A, “Purchase-Delivery Order for Health Services.” Need and Use of Information Collection: The Contract Health Service health care providers complete form IHS-843-1A to certify that they have performed the health services authorized by the IHS. The information is used to manage, administer, and plan for the provision of health services to eligible American Indian patients, process payments to providers, obtain program data, provide program statistics, and serve as a legal document for health care services rendered. Affected Public: Businesses or other for-profit, Individuals, not-for-profit institutions and State, local or Tribal Government. Type of Respondents: Health care providers. The table below provides: Type(s) of Data Collection Instruments, Estimated Number of Respondents, Number of Responses per Respondent, Annual Number of Responses, Average Burden Hour per Response, and Total Annual Burden Hour.

Data collection instrument | Estimated number of respondents | Number of responses per respondent | Annual number of responses | Average burden hour per response (3 mins)* | Total annual burden hours
IHS-843-1A | 7,399 | 42 | 310,758 | 0.05 | 15,538
IDS** | 16,356 | 1 | 16,356 | 0.05 | 818
* For ease of understanding, burden hours are also provided in actual minutes.
** Inpatient Discharge Summary (IDS)

There are no Capital Costs, Operating Costs or Maintenance Costs to report.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Comments and Requests for Further Information: Send your written comments, requests for more information on the proposed project, or requests to obtain a copy of the data collection instrument and instructions to: Mr. Lance Hodahkwen, Sr., M.P.H., IHS Reports Clearance Officer, 12300 Twinbrook Parkway, Suite 450, Rockville, MD 20852.1601, call non-toll free (301) 443-1116, fax (301) 443-2316, or send your E-mail requests, comments, and return address to: lhodahkw@.hqe.ihs.gov.

Comment Due Date: Your comments are best assured of having their full effect if received on or before June 1, 2001.

Dated: March 23, 2001.
Michael H. Trujillo,
Assistant Surgeon General, Director, Indian Health Service.

[FR Doc. 01-7998 Filed 3-30-01; 8:45 am]

BILLING CODE 4160-16-M